DEPARTMENT OF ENERGY

Federal Energy Regulatory Commission

[Docket Nos. ER01-1265-008, et al.]

Mirant Americas Energy Marketing, L.P. et al.; Electric Rate and Corporate Filings

February 9, 2006.

The following filings have been made with the Commission. The filings are listed in ascending order within each docket classification.

1. Mirant Americas Energy Marketing, LP, Mirant California, LLC, Mirant Delta, LLC, Mirant Potrero, LLC, Mirant Canal, LLC, Mirant Kendall, LLC, Mirant Bowline, LLC, Mirant Lovett, LLC, Mirant NY-Gen. LLC, Mirant Chalk Point, LLC, Mirant Mid-Atlantic, LLC, Mirant Potomac River, LLC, Mirant Zeeland, LLC, West Georgia Generating Company, LLC, Mirant Sugar Creek, LLC, Shady Hills Power Company, LLC, Mirant Energy Trading, LLC, Mirant Oregon, LLC, Mirant Las Vegas, LLC

[Docket Nos. ER01-1265-008; ER01-1267-009; ER01-1270-009; ER01-1278-009; ER01-1268-008; ER01-1271-008; ER01-1266-007; ER01-1272-007; ER01-1275-007; ER01-1269-007; ER01-1273-008; ER01-1277-007; ER01-1263-007; ER02-1052-006; ER02-900-006; ER02-537-007; ER02-1213-006; ER02-1331-008; ER03-160-001]

Take notice that on January 31, 2006, the above reference Mirant Entities tendered for filing a non-material change in status to reflect certain departures from the facts the Commission relied upon in granting market-based rate authority.

Comment Date: 5 p.m. Eastern Time on February 21, 2006.

2. CalBear Energy LP, Mohawk River Funding IV, L.L.C., Utility Contract Funding, L.L.C., Cedar Brakes I, L.L.C., Cedar Brakes II, L.L.C.

[Docket Nos. ER06-352-001; ER02-1582-006; ER02-2102-007; ER00-2885-008; ER01-2765-007]

Take notice that on February 1, 2006, CalBear Energy LP, Mohawk River Funding IV, L.L.C., Utility Contract Funding, L.L.C., Cedar Brakes I, L.L.C. and Cedar Brakes II, L.L.C. tendered for filing a revised market-based rate schedules that were in the Amended Notice of Succession to Rate Schedule and Ministerial Revisions filed on December 14, 2005.

Comment Date: 5 p.m. Eastern Time on February 15, 2006.

3. Entergy Louisiana, LLC

[Docket No. ER06-559-000]

Take notice that on January 31, 2006, Entergy Louisiana, LLC a Notice of Succession adopting all applicable rate schedules, service agreements and tariffs previously filed with the Commission.

Comment Date: 5 p.m. Eastern Time on February 21, 2006.

4. Entergy Gulf States, Inc.

[Docket No. ES06-23-000]

Take notice that on January 31, 2006, Entergy Gulf States, Inc. filed an application, pursuant to section 204(a) of the Federal Power Act, seeking authorization to issue the following securities:

(i) First mortgage bonds (First Mortgage Bonds), including First Mortgage Bonds of the medium term note series (MTNs), preferred stock, preference stock, secured or unsecured long-term indebtedness (Long-term Debt) and, directly or indirectly through one or more financing subsidiaries (Financing Subsidiaries), other forms of preferred or equity-linked securities (Equity Interests), in a combined aggregate amount of up to $2 billion;

(ii) In connection with the issuance of secured Long-term Debt, to issue and pledge First Mortgage Bonds, including MTNs, as collateral security for such secured Long-term Debt, in an aggregate principal amount of $250 million;

(iii) In connection with the issuance of Equity Interests, issue promissory notes or other unsecured debt instruments to Financing Subsidiaries to the extent of (a) the related issuance of Equity Interests and Entergy Gulf States' direct or indirect equity investments in such Financing Subsidiaries and (b) the proceeds derived by such Financing Subsidiaries from the sale of Equity Interests; and

(iv) Tax-exempt bonds (“Tax-exempt Bonds”) in an aggregate principal amount of up to $600 million; and, in connection with the issuance and sale of such Tax-exempt Bonds to issue and pledge First Mortgage Bonds, including MTNs, issued as collateral security for such Tax-exempt Bonds, in an aggregate principal amount of up to $720 million and/or to arrange for bond insurance or one or more bank letters of credit, or enter into other arrangements, as more particularly described below, to support such Tax-exempt Bonds.

In addition, in connection with the formation of Financing Subsidiaries, authorization is requested for Entergy Gulf States to guarantee certain obligations of such Financing Subsidiaries in respect of such Equity Interests.

Entergy Gulf States also requests a waiver from the Commission's competitive bidding and negotiated placement requirements at 18 CFR 34.2.

Comment Date: 5 p.m. Eastern Time on February 24, 2006.

5. Aquila, Inc.

[Docket No. ES06-24-000]

Take notice that on February 2, 2006, Aquila, Inc. (Aquila) submitted an application pursuant to section 204 of the Federal Power Act to authorize Aquila to issue up to and including $500 million of secured and unsecured notes and other evidences of short-term indebtedness.

Aquila also requests a waiver from the Commission's competitive bidding and negotiated placement requirements at 18 CFR 34.2.

Comment Date: 5 p.m. Eastern Time on March 1, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-2238 Filed 2-15-06; 8:45 am]

BILLING CODE 6717-01-P